DEPARTMENT OF THE INTERIOR

National Park Service

Kaloko-Honokohau National Historical Park Advisory Commission; Notice of Meeting

Notice is given in accordance with the Federal Advisory Committee Act that meeting of the Na Hoapili o Kaloko-Honokohau, Kaloko Honokohau National Historical Park Advisory Commission will be held at 7:00 p.m. to 9:00 p.m., May 5, 2000, at the King Kamehameha's Kona Beach Hotel, Kulana Hulihonua Room, Kailua-Kona, Hawaii.

The agenda will include the following: Status of vacancies and Commissioners' terms of appointments, budget update, and cultural center development. The Superintendent's and committee reports will also be presented.

This meeting is open to the public. It will be recorded for documentation and transcribed for dissemination. Minutes of the meeting will be available to the public after approval of the full Advisory Commission. A transcript will be available after May 31, 2000. For copies of the minutes, contact the Kaloko-Honokohau National Historical Park Superintendent at (808) 329-6881.

Dated: March 15, 2000.
Geraldine K. Bell,
Superintendent, Kaloko-Honokohau National Historical Park.

[FR Doc. 00-7171 Filed 3-22-00; 8:45 am]

BILLING CODE 4310-70-M